DEPARTMENT OF THE INTERIOR

Bureau of Indian Affairs

Submission to OMB for Approval of Tribal Self-Governance Program Information Collection

AGENCY: Bureau of Indian Affairs, Interior.

ACTION: Notice.

SUMMARY: The Bureau of Indian Affairs is submitting a request for an extension of an information collection from potential Self-Governance Tribes, as required by the Paperwork Reduction Act. The information collected under OMB Clearance Number 1076-0143 will be used to establish requirements for entry into the pool of qualified applicants for self-governance, to provide information for awarding planning and negotiation grants, and to meet reporting requirements of the Self-Governance Act. The Federal Register notice of proposed information collection activities was published in the Federal Register on December 7, 1999 (64 FR 68371-68372).

DATES: Submit comments on or before April 3, 2000.

ADDRESSES: Written comments can be sent to: The Office of Information and Regulatory Affairs, OMB, Attention: Desk Officer for the Department of the Interior, Docket Library, Room 10102, 725 17th Street NW, Washington, DC 20503. A copy should be sent to William Sinclair, Office of Self-Governance, 1849 C Street, NW, Mail Stop 2548 MIB, Washington, DC 20240.

FOR FURTHER INFORMATION CONTACT: You may obtain copies of the information collection request submission and the Federal Register notice by contacting William Sinclair, (202) 219-0244.

SUPPLEMENTARY INFORMATION: You are advised that an agency may not conduct or sponsor, and a person is not required to respond to, a collection of information that does not display a valid OMB clearance number. For example, the collection listed by OMB as 1076-0017, and it expires 06/30/2002. For the Self-Governance collection of information, the response is voluntary, to obtain or retain a benefit, depending upon the parts of the program being addressed. The Department received three letters from self-governance tribes on the proposed extension of the information collection from current and potential self-governance tribes. These comments were similar in nature and are summarized below.

Three comments indicated that the phrase “certain information” being required by tribes to support their admission into Self-Governance was unclear and that the Tribal Self-Governance Act of 1994 (Pub.L. 103-413) is clear as to what information is required. The information being requested of new tribes in this extension is no more than what is required by Public Law 103-413. To make this clearer, the words “as required by Pub.L. 103-413” have been inserted following the words “certain information” in this Federal Register notice.

There were three comments stating that the reference to “grants” in the summary section is unclear. To address this, the words “planning and negotiation” have been inserted before the word “grants” in this Federal Register notice.

There were three comments that addressed the words “must submit certain information” and contended that Self-Governance tribes are not required to submit any information but are willing to do so on a voluntary basis. Further, the words “certain information” is vague. In response to this comment, a change was made in this Federal Register notice to replace the word “must” with the words “will be requested to” and following the word “information” the following words were inserted “as described in the draft negotiated rules as published for public comment in the Federal Register, February 12, 1998. This information will be used to* * * .”

There were three comments that took exception with the sentence “Information is also required to ensure that the trust responsibilities of the Secretary of the Interior are safeguarded and that imminent jeopardy to trust assets is avoided (See section 403(d) of the Act.).” The three comments point out that Pub L. 103-413 requires trust evaluations to be performed and does not require tribes to submit information for the purposes of safeguarding the Secretary's trust responsibilities. In response to this comment the sentence “Information is also required of tribes to ensure that the trust responsibilities of the Secretary of the Interior are safeguarded and that imminent jeopardy to trust assets is avoided (section 403(d) of the Act.)” has been deleted in this Federal Register notice. The information required of tribes in conjunction with the annual trust evaluations has been included in a separate information collection request.

One comment suggested that the BIA should “cease any further activity and allow the negotiated rulemaking committee to complete its work * * *” However, the process requires that an information collection request extension be made at this time. All the information contained in this information collection request is consistent with the agreed to portions of the negotiated rules and is required by the Act itself. No change was made in response to this comment. The revised text from the proposed information collection follows:

The Self-Governance program was authorized by the Tribal Self-Governance Act of 1994, Public Law 103-413, as amended. Tribal Self-Governance is a voluntary program that is currently active and operating without promulgated regulations [see section 407(d) of the Act which says that lack of promulgated regulations shall not limit the effect of this title]. Previously, an information collection request was cleared by the Office of Information and Regulatory Affairs, Office of Management and Budget, of the Act. That clearance expires on February 29, 2000. Tribes interested in entering into Self-Governance must submit certain information as required by Public Law 103-413, as amended, to support their admission into Self-Governance. In addition, those tribes and tribal consortia who have entered into self-governance compacts will be requested to submit certain information as described in the draft negotiated rules published for public comment in the Federal Register, February 12, 1998 (63 FR 7202-7251). This information will be used to justify a budget request submission on their behalf and to comport with section 405 of the Act that calls for the Secretary to submit an annual report to the Congress.

You may submit comments about the collection to evaluate the following:

(a) The accuracy of the burden hours, including the validity of the methodology used and assumptions made;

(b) The necessity of the information for proper performance of the bureau functions, including its practical utility;

(c) The quality, utility, and clarity of the information to be collected; and,

(d) Suggestions to reduce the burden including use of automated, electronic, mechanical, or other forms of information technology.

Please submit your comments to the persons listed in the ADDRESSES section. Please note that comments, names and addresses of commentators, will be available for public review during regular business hours. If you wish your name and address withheld, you must state this prominently at the beginning of your comments. We will honor your request to the extent allowable by law.

Type of review: Renewal.

Title: Tribal Self-Governance Program.

Affected Entities: Tribes and tribal consortiums wishing to enter into a self-governance compact.

Size of Respondent Pool: 85.

Number of Annual Responses: 257.

Hours Per Response: 42 hours.

Bureau Information Collection Clearance Officer: Ruth Bajema, 202-208-2574.

Dated: February 28, 2000.
Kevin Gover,
Assistant Secretary—Indian Affairs.

[FR Doc. 00-5227 Filed 3-2-00; 8:45 am]

BILLING CODE 4310-02-P